NUCLEAR REGULATORY COMMISSION

[Docket No. 50-416]

Entergy Operations, Inc.; Grand Gulf Nuclear Station, Unit 1; Environmental Assessment and Finding of No Significant Impact

The U.S. Nuclear Regulatory Commission (NRC) is considering issuance of an exemption from 10 CFR Part 50.71(e)(1) for Facility Operating License No. NPF-29 issued to Entergy Operations, Inc., the licensee, for operation of the Grand Gulf Nuclear Station (GGNS), Unit 1, located in Claiborne County, Mississippi.

Environmental Assessment

Identification of the Proposed Action

The proposed action would allow the licensee to revise the GGNS, Unit 1, Updated Final Safety Analysis Report (UFSAR) via the World Wide Web (WWW), and discontinue paper submittals of the updates to the NRC. The UFSAR would be maintained and updated on the WWW in accordance with the frequency outlined in 10 CFR Part 50.71(e).

The proposed action is in accordance with the licensee's application for exemption dated November 28, 2000.

The Need for the Proposed Action

The proposed action is needed to reduce and eliminate technical issues related to the present submission of UFSAR updates via CD-ROM. It would also improve public access to the GGNS, Unit 1, UFSAR.

Environmental Impacts of the Proposed Action

The NRC has completed its evaluation of the proposed action and concludes that the proposed action is administrative in nature and unrelated to plant operations.

The proposed action will not significantly increase the probability or consequences of accidents, no changes are being made in the types of any effluents that may be released off site, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for the GGNS, Unit 1, dated September 1981, in NUREG-0777.

Agencies and Persons Consulted

In accordance with its stated policy on March 30, 2001, the staff consulted with the Mississippi State official, Robert W. Goff, of the Mississippi Department of Health, Division of Radiological Health, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated November 28, 2000. Documents may be examined, and/or copied for a fee, at the NRC's Public Document Room, located at One White Flint North, 11555 Rockville Pike (first floor), Rockville, Maryland. Publicly available records will be accessible electronically from the ADAMS Public Library component on the NRC Web site, http:\\www.nrc.gov (the Electronic Reading Room).

Dated at Rockville, Maryland, this 9th day of April, 2001.
For the Nuclear Regulatory Commission.
Stuart A. Richards,
Director, Project Directorate IV & Decommissioning, Division of Licensing Project Management, Office of Nuclear Reactor Regulation.

[FR Doc. 01-9318 Filed 4-13-01; 8:45 am]

BILLING CODE 7590-01-P